DEPARTMENT OF TRANSPORTATION

Federal Highway Administration

[Docket No. FHWA-2010-0108]

Agency Information Collection Activities: Notice of Request for Approval of a New Information Collection

AGENCY: Federal Highway Administration (FHWA), DOT.

ACTION: Notice of request for approval of a new information collection.

SUMMARY: The FHWA invites public comments about our intention to request the Office of Management and Budget's (OMB) approval of a new information collection that is summarized below under SUPPLEMENTARY INFORMATION. We are required to publish this notice in the Federal Register by the Paperwork Reduction Act of 1995.

DATES: Please submit comments by November 8, 2010.

ADDRESSES: You may submit comments identified by DOT Docket ID Number 2010-0108 by any of the following methods:

Web Site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue, SE., Washington, DC 20590.

Hand Delivery or Courier: U.S. Department of Transportation, West Building Ground Floor, Room W12-140, 1200 New Jersey Avenue, SE., Washington, DC 20590, between 9 a.m. and 5 p.m. ET, Monday through Friday, except Federal holidays.

FOR FURTHER INFORMATION CONTACT: Kathleen Bergeron, (202) 366-5508, Office of Infrastructure, Federal Highway Administration, Department of Transportation, 1200 New Jersey Avenue, SE., Washington, DC 20590, Monday through Friday, except Federal holidays.

SUPPLEMENTARY INFORMATION:

Title: Highways for LIFE Omnibus Survey for Technology Deployment.

Background: The Highways for LIFE program was established by the 109th Congress within Sections 1101 and 1502 of the Safe, Accountable, Flexible, Efficient Transportation Equity Act: A Legacy for Users (Pub. L. 109-59). Within that law, under the topic “Technology Transfer and Information Dissemination,” it states that “The Secretary shall conduct a highways for life technology transfer program.” It further states that “The Secretary shall establish a process for stakeholder input and involvement in the development, implementation, and evaluation of the Highways for LIFE Pilot Program. The process may include participation by representatives of the State departments of transportation and other interested persons.” Also, it states that, “The Secretary shall monitor and evaluate the effectiveness of any activity carried out under this section.”

A critical element in accomplishing these goals is to ensure that the technologies being deployed by FHWA and implemented by the States actually fill a specific need. Therefore, it is important that FHWA obtain feedback both before and after specific technologies are transferred. If, for example, FHWA determined on its own that a particular innovation was important, yet never actually determined whether States would value such an innovation, much time and money would have been wasted. Or, if there were an innovation that was deployed to States, yet FHWA never followed up to determine if the effort was a success, or how it might be even more successful, lessons could not be learned and put into effect.

In FHWA's Strategic Plan, the first goal listed is “National Leadership.” Under that topic, the first objective is “Advance Innovation: FHWA is recognized as a leader in the development and promotion of innovative solutions that address current and emerging transportation issues.” Item 1.1 is “Systematically identify emerging issues and needs that could impact transportation,” and item 1.2 is “Identify, develop, promote, and rapidly implement new and proven technologies and innovative solutions to improve system performance.” These “innovative solutions” cannot properly identify what might work without discussing the needs for such things with the user groups—the States. Likewise, it cannot promote and implement them without an appropriate understanding of how the user organizations—the States—feel about the particular innovations; and this can only come from a formal survey.

Respondents: There are 260 respondents, including 5 each from 50 State Transportation Departments, the District of Columbia, and the Commonwealth of Puerto Rico.

Frequency: Once a year, for three years.

Estimated Average Burden per Response: Each survey will require 15 minutes to respond.

Estimated Total Annual Burden Hours: 65 hours.

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: August 27, 2010.
Juli Huynh,
Chief, Management Programs and Analysis Division.

[FR Doc. 2010-22166 Filed 9-3-10; 8:45 am]

BILLING CODE 4910-22-P